DEPARTMENT OF THE TREASURY

Internal Revenue Service

26 CFR Part 1

[TD 9866]

Guidance Related to Section 951A (Global Intangible Low-Taxed Income) and Certain Guidance Related to Foreign Tax Credits

AGENCY: Internal Revenue Service (IRS), Treasury.

ACTION: Correcting amendment.

SUMMARY: This document contains corrections to Treasury Decision 9866, which was published in the Federal Register on Friday, June 21, 2019. Treasury Decision 9866 contained final regulations under section 951A of the Internal Revenue Code that provide guidance to determine the amount of global intangible low-taxed income included in the gross income of certain United States shareholders of foreign corporations.

DATES: Effective date: These regulations are effective on August 27, 2019.

Applicability date: June 21, 2019.

FOR FURTHER INFORMATION CONTACT: Jorge M. Oben at (202) 317-6934 (not a toll free number).

SUPPLEMENTARY INFORMATION:

Background

The final regulation (TD 9866) that is the subject of this correction is under section 951A of the Internal Revenue Code.

Need for Correction

As published in June 21, 2019 (84 FR 29288), the final regulations (TD 9866; FR 2019-12437) contained errors that may prove misleading and therefore need to be corrected.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

§ 1.951A-2 [Amended]

Par. 2. Section 1.951A-2 is amended by:

a. In the second sentence of paragraph (c)(4)(iv)(A)(2)(i), removing the language “paragraph (c)(4)(ii)(A)” and adding “paragraph (c)(4)(iii)(A)” in its place;

b. In the third sentence of paragraph (c)(4)(iv)(A)(2)(ii), removing the language “paragraph (c)(4)(ii)(B)” and adding “paragraph (c)(4)(iii)(B)” in its place; and

c. In paragraph (c)(4)(iv)(C)(2)(iii):

i. In the third sentence, removing the language “paragraph (c)(4)(ii)(B)” and adding “paragraph (c)(4)(iii)(B)” in its place; and

ii. In the fourth sentence, removing the language “paragraph (c)(4)(iii)” and adding “paragraph (c)(4)(iii)(C)” in its place.

Martin V. Franks,
Chief, Publications and Regulations Branch, Legal Processing Division, Associate Chief Counsel, Procedure and Administration.

[FR Doc. 2019-18348 Filed 8-26-19; 8:45 am]

BILLING CODE 4830-01-P